DEPARTMENT OF JUSTICE

Antitrust Division

Notice Pursuant to the National Cooperative Research and Production Act of 1993—Pistoia Alliance, Inc.

Notice is hereby given that, on July 21, 2020, pursuant to Section 6(a) of the National Cooperative Research and Production Act of 1993, 15 U.S.C. Section 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Impact Business Information Services Inc. (IBIS Inc), Princeton, NJ; Stichting Triall Foundation, THE NETHERLANDS; Good Clinical Practice Alliance—Europe (GCPA), Leuven (Kessel-Lo), BELGIUM; Zifo Technologies Inc., Deerfield, IL; Sainy Alafaireet (individual member), Columbia, MO; Anderson Ifill (individual member), Willingham, UNITED KINGDOM; Lextech Global Services, Downers Grove, IL; Roger Frechette (individual member), Reading, MA; RAND Europe Community Interest Company, Cambridge, UNITED KINGDOM; QC Ware Corp., Palo Alto, CA; Bowhead Health, Inc., Kanato, CANADA; and Jason Mesut (individual member), Twickenham, UNITED KINGDOM have been added as parties to this venture.

Also, Cambridge Semantics Incorporated, Boston, MA; WuXi AppTec, Shanghai, PEOPLE'S REPUBLIC OF CHINA; Phenomic AI Inc., Toronto, CANADA; and Avantor Performance Materials (formerly VWR International), Darmstadt, GERMANY have withdrawn as parties to this venture. No other changes have been made in either the membership or planned activity of the group research project. Membership in this group research project remains open and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on April 24, 2020. A notice was published in the Federal Register pursuant to Section 6(b) of the Act on May 19, 2020 (85 FR 29975).

Suzanne Morris,
Chief, Premerger and Division Statistics, Antitrust Division.

[FR Doc. 2020-18973 Filed 8-27-20; 8:45 am]

BILLING CODE 4410-11-P